DEPARTMENT OF AGRICULTURE

Office of the Secretary

Privacy Act of 1974; Revision of System of Records

AGENCY: Office of the Secretary, USDA.

ACTION: Notice of revision of Privacy Act system of records.

SUMMARY: Notice is hereby given that the United States Department of Agriculture (USDA) proposes to amend the Privacy Act system of records FCIC-2, entitled Compliance Review Cases. The system of records is maintained by the Federal Crop Insurance Corporation (FCIC), a wholly-owned Government Corporation administered by the Risk Management Agency (RMA), an agency of USDA. The compliance review cases system of records is being revised to reflect changes in the administration and management of the Federal crop insurance program.

DATES: This notice will be effective without further notice on December 12, 2002 unless modified by a subsequent notice to incorporate comments received from the public. Although the Privacy Act requires only that the portion of the system which describes the “routine uses” of the system be published for comment, USDA invites comment on all portions of this notice. Comments must be received by the contact person listed below on or before December 12, 2002.

FOR FURTHER INFORMATION CONTACT: Deputy Administrator for Compliance, Risk Management Agency, Federal Crop Insurance Corporation, 1400 Independence Avenue, SW., Stop 0806, Washington, DC 20250-0806, telephone number (202) 720-0642.

SUPPLEMENTARY INFORMATION: The changes to the system of records modify the: system location; categories of individuals covered by the system; categories of records in the system; routine uses of records maintained in the system; policies and practices for storing, retrieving, accessing, retaining, and disposing of records in the system; and, the system manager. These revisions are being made to reflect changes in the crop insurance program and RMA operations and organization. The major revisions to this system of records are the result of mandates included in the Agricultural Risk Protection Act of 2000. These include, establishment of a Farm Service Agency monitoring program, and utilization of the information technologies known as data mining and data warehousing and other available information technologies. The “categories of records in the system” is revised to include the results of the research and analyses that may be conducted on the data by RMA or its contractors. The “routine uses of records” are revised to: Update routine use number (1) to include agencies that regulate; add routine use number (5) to permit research and analysis on data for the purposes of detecting fraud, waste, or abuse; add routine use number (6) permitting investigations and referrals to determine whether information has been correctly reported and compliance with program requirements; and, add routine use number (7) to allow records to be used as necessary to administer, analyze, and evaluate the Federal crop insurance program.

In conformance with 5 U.S.C. 552a(r), as implemented by OMB Circular A-130 the Department of Agriculture sent a report reflecting these proposed changes to the Chairman, Committee on Governmental Affairs, United States Senate; the Chairman, Committee on Government Reform, United States House of Representatives; and the Administrator, Office of Information and Regulatory Affairs, Office of Management and Budget on November 5, 2002.

Signed at Washington, DC on November 5, 2002.
Ann M. Veneman,
Secretary of Agriculture.

USDA/FCIC-2

System name:

Compliance Review Cases.

Security classification:

None.

System location:

Federal Crop Insurance Corporation, Risk Management Agency, 6501 Beacon Drive, Stop 0814, Kansas City, Missouri 64133-4676, headquarters and regional compliance offices for the Federal Crop Insurance Corporation, and the Center for Agribusiness Excellence, Tarleton State University, 1333 W. Washington St., Stephenville, Texas, 76402. Addresses for headquarters and each regional compliance office may be obtained from the Deputy Administrator for Compliance, Risk Management Agency, United States Department of Agriculture, 1400 Independence Avenue, SW., Stop 0806, room 6094-S, Washington, DC 20250-0806.

Categories of individuals covered by the system:

The system consists of: (1) Individuals or other legal entities that presently have or have had insurance with the Federal Crop Insurance Corporation (FCIC) or a private insurance company reinsured by FCIC; (2) individuals who are under contract with or employed by a private insurance company to solicit and service crop insurance contracts, who meet the licensing requirements set by the individual States and requirements established by FCIC for such activities; (3) persons authorized by FCIC or the State to perform loss adjustment and related activities; and (4) private insurance companies and other individuals or entities alleged to have committed acts that could subject them to disqualification, suspension, disbarment or any other administrative action, who are the subject of a compliance review or investigation.

Categories of records in the system:

The system consists of: (1) Compliance review files containing evidence gathered in the course of a compliance review; (2) the results of any research and analyses conducted on the information contained in any of the systems of records maintained by FCIC that are anomalous or indicate the existence of fraud, waste or abuse; (3) the identification of policyholders identified through other means where there are indications of potential fraud, waste or abuse; and (4) reports and inter/intra-Agency recommendations from the Office of Inspector General, the Farm Service Agency, other USDA agencies, private insurance companies, and any other sources regarding individuals or entities who may have failed to comply with the Federal Crop Insurance Act, any regulations promulgated thereunder, the terms of the policy, or any procedure or directive established by FCIC.

Authority for maintenance of the system:

7 U.S.C. 1501 et seq. and 7 CFR part 1, subpart G, Appendix A.

Routine uses of records maintained in the system including categories of users and the purposes of such uses:

Records contained in this system may be used as follows:

(1) Referral to the appropriate agency, whether Federal, State, local or foreign, charged with the responsibility of investigating or prosecuting a violation of law, responsible for enforcing or implementing a statute, rule, regulation or order issued pursuant thereto, when information available indicates a violation or potential violation of law, whether civil, criminal, or regulatory in nature arising by general statute, program statute, rule, regulation or order pursuant thereto.

(2) Referral to the Department of Justice when (a) the agency, or any component thereof; or (b) any employee of the agency in his or her official capacity; or any employee of the agency in his or her individual capacity where the Department of Justice has agreed to represent the employee; or (c) the United States, where the agency determines that litigation is likely to affect the agency or any of its components, is a party to litigation or has an interest in such litigation, and the use of such records by the Department of Justice is deemed by the agency to be relevant and necessary to the litigation, provided, however, in each case, the agency determines that disclosure of the records to the Department of Justice is a use of the information contained in the records that is compatible with the purpose for which the records were collected.

(3) Disclosure in a proceeding before a court or adjudicative body before which the agency is authorized to appear, when (a) the agency, or any component thereof; or (b) any employee of the agency in his or her official capacity; or (c) any employee of the agency in his or her individual capacity where the agency has agreed to represent the employee; or (d) the United States, where the agency determines litigation is likely to affect the agency or any of its components, is a party to litigation or has an interest in such litigation, and the agency determines that use of such records is relevant and necessary to the litigation, provided, however, that in each case, the agency determines that disclosure of the records to the court is a use of the information contained in the records that is compatible with the purpose for which the records were collected.

(4) Disclosure in response to a request for discovery or for the appearance of a witness, to the extent that the agency determines that the information sought is relevant to the subject matter involved in a pending judicial or administrative proceeding.

(5) Referral to contractors/cooperators for purposes of conducting research and analyses to identify trends, patterns, anomalies, instances and relationships of private insurance companies, agents, loss adjusters and policyholders that may be indicative of fraud, waste, or abuse.

(6) Referral to the Farm Service Agency or to the responsible private insurance company to verify the accuracy of information reported by an individual or entity to FCIC or a private insurance company with respect to a policy or plan of insurance authorized under the Federal Crop Insurance Act.

(7) Disclosure to private insurance companies, contractors, cooperators, partners of FCIC, and other Federal agencies for any purpose relating to the sale, service, administration, analysis or evaluation of the Federal crop insurance program.

Policies and practices for storing, retrieving, accessing, retaining, and disposing of records in the system:

Storage:

Records are maintained electronically, on computer printouts and in the file folders at the addresses listed under “System Location.”

Retrievability:

Records may be indexed and retrieved by the individual or entity name, tax identification number (including social security number), the private insurance company name, subject of the compliance review or the case number. Data research and analyses records may be indexed and retrieved by State and County, individual or entity name, tax identification number (including social security number), or contract number.

Safeguards:

Records are accessible only to authorized personnel and are maintained in offices that are locked during non-duty hours. The computer database is controlled by password protection and the computer network is protected by means of a firewall. File folders are stored in locked file cabinets.

Retention and disposal:

Record retention and disposal are handled in accordance with instructions outlined in the Farm and Foreign Agricultural Service Handbook, “Records Management, 2-AS (Revision 10), Amendment 1.”

System Manager/s/ and Address:

Deputy Administrator for Compliance, Risk Management Agency, Federal Crop Insurance Corporation, 1400 Independence Avenue, SW. Stop 0806, Washington, DC 20250-0806, telephone number (202) 720-0642.

Exemptions claimed for the system:

Pursuant to the provisions of 5 U.S.C. 552a(k)(2), material in this system of records is exempt from the requirements of 5 U.S.C. 552(a)(c)(3), (d), (e)(1), (e)(4)(G), (H) and (I), and (f) because it contains investigatory material compiled for law enforcement purposes. See 7 CFR 1.123.

5 U.S.C. 552a(c)(3) requires that an accounting of disclosures be made available to an individual. This would impair compliance reviews by alerting the subject of the review to the existence of those compliance reviews. The release of information from these files could result in the destruction or alteration of documentary evidence necessary to prosecution, improper influence or witnesses and other activities which could impede or compromise the review.

5 U.S.C. 552a(d) requires that an individual is given access to and the right to amend files pertaining to him or her. Such individual access to these files could hamper reviews in progress by alerting subjects involved in compliance reviews that their actions are under scrutiny, and allow them time to take measures to prevent detection of any illegal activities or escape prosecution. Release of these records also would disclose investigatory techniques and review procedures employed by the RMA Office of Risk Compliance, Federal Crop Insurance Corporation and other agencies, which may impair law enforcement activities.

5 U.S.C. 552a(e)(1) permits the maintenance of only such information as is relevant and necessary to accomplish a purpose of the Agency required by statute or Executive Order. Exemption from this provision is required because determination of relevance and necessity can be made only after information is evaluated. Evaluation at the time of collection is too time consuming for the effective conduct of a compliance review. Further, the determination of relevance or necessity of specific information at the early stages of the compliance review is not possible.

5 U.S.C. 552a(e)(4)(G), (H) and (f) provide for notification and access procedures. If these requirements were followed it would necessarily alert subjects of the compliance review to the existence of the review and could impair the outcome of the review. Similarly, access to the records could interfere with compliance review and ultimate law enforcement proceedings; disclose confidential informants and information; constitute an unwarranted invasion of personal privacy of others; and reveal confidential investigative techniques and procedures.

5 U.S.C. 552a(e)(4)(I) requires that categories of records in each system be published. Application of this provision could disclose investigative techniques and procedures employed by compliance reviewers, which may impair law enforcement activities.

[FR Doc. 02-28667 Filed 11-8-02; 8:45 am]

BILLING CODE 3410-08-P